DEPARTMENT OF STATE

[Public Notice: 10819]

30-Day Notice of Proposed Information Collection: Office of Language Services Contractor Application

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to August 15, 2019.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

You must include the DS form number (if applicable), information collection title, and the OMB control number in any correspondence.

FOR FURTHER INFORMATION CONTACT: Direct requests for additional information regarding the collection listed in this notice, including requests for copies of the proposed collection instrument and supporting documents, to Wanda Lyles Howell, who may be reached on 202-261-8791 or at lyleswm2@state.gov.

SUPPLEMENTARY INFORMATION: • Title of Information Collection: Office of Language Services Contractor Application Form.

• OMB Control Number: 1405-0191.

• Type of Request: Extension of a Currently Approved Collection.

• Originating Office: Bureau of Administration, A/OPR/LS.

• Form Number: DS-7651.

• Respondents: General public applying for translator and/or interpreter contract positions.

• Estimated Number of Respondents: 1,000.

• Estimated Number of Responses: 1,000.

• Average Time per Response: 30 minutes.

• Total Estimated Burden Time: 500 annual hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The information collected is necessary to ascertain whether respondents are valid interpreting and/or translating candidates, based on their work history and legal work status in the United States. If candidates successfully become contractors for the U.S. Department of State, Office of Language Services, the information collected is used to initiate security clearance background checks and for processing payment vouchers. Respondents are typically members of the public with varying degrees of experience in the fields of interpreting and/or translating.

Methodology

The Office of Language Services makes the “Office of Language Services Contractor Application Form” available via its internet site. Respondents can submit the form via email.

Katherine H. Yemelyanov,
Acting Director.

[FR Doc. 2019-15042 Filed 7-15-19; 8:45 am]

BILLING CODE 4710-24-P